DEPARTMENT OF COMMERCE

Economic Development Administration

Notice of Petitions by Firms for Determination of Eligibility To Apply for Trade Adjustment Assistance

AGENCY: Economic Development Administration, Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period
[December 21, 2006 through January 20, 2006]
Firm | Address | Date petition accepted | Product
National Cart Company, LLC | 3125 Boschertown Rd., St. Charles, MO 63301 | 12/3/2006 | Food and material handling equipment, cart corrals and custom metal fabrication.
Rock Solid Audio, Inc | 13571 Desmond St., Pacoima, CA 91331 | 1/3/2007 | Consumer electronics wood fabrication and audio cabinets.
BMV Clothing Contractors, Inc | 94 Jeffery Lane, Oceanside, NY 11572-5936 | 12/22/2006 | Men's and boys suit vests.
Custom Craftworks, Inc | 760 Bailey Hill Rd., P.O. Box 24621, Eugene, OR 97402 | 12/27/2006 | Wood massage tables.
Conforma Laboratories, Inc | 4507 Colley Avenue, Norfold, VA 23508 | 12/27/2006 | Gas permeable contact lenses and contact lens modification tools.
PFM Manufacturing, Inc | 3106th Street, Townsend, MT 59644 | 12/27/2006 | Special purpose vehicles.
Acme Staple Company, Inc | Tomac Packaging, Inc. and Subsidiary, d/b/a Acme Staple Company, Inc., 87 Hill Road, Franklin, NH 03235 | 12/28/2006 | Specialty staples and staple machinery.
Phoenix Container, Inc | 1202 Airport Road, New Brunswick, NJ 08902 | 1/10/2007 | Steel pails.
Almatron Electronics, Inc. | 644 E. Young Street, Santa Ana, CA 92705 | 1/10/2007 | Single, double sided and multilayer printed circuit boards.
Team Industries, Inc | 105 Park Ave, NW., Bagley, MN 56621 | 1/17/2007 | Aluminum die-cast snowmobile and all-terrain vehicle power-trains and power-train components.
Great Lakes Industries, Inc | 1927 Wildwood, Jackson, MI 49202 | 1/17/2006 | Mechanical power transmission components.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: January 22, 2007.
William P. Kittredge,
Program Officer for TAA.

[FR Doc. E7-1206 Filed 1-25-07; 8:45 am]

BILLING CODE 3510-24-P